DEPARTMENT OF COMMERCE

National Oceanic and Atmospheric Administration

[RTID 0648-XV174]

Determination of Overfishing or an Overfished Condition

AGENCY: National Marine Fisheries Service (NMFS), National Oceanic and Atmospheric Administration (NOAA), Commerce.

ACTION: Notice.

SUMMARY: This action serves as a notice that NMFS, on behalf of the Secretary of Commerce (Secretary), has found that Southern Atlantic greater amberjack, Southern Atlantic red grouper, Gulf of Mexico greater amberjack, and Gulf of Mexico gray triggerfish are now subject to overfishing; Gulf of Maine/Georges Bank white hake and Georges Bank winter flounder are now overfished; Gulf of Maine/Georges Bank windowpane flounder, Atlantic witch flounder, Southern New England/Mid-Atlantic yellowtail flounder, Pribilof Islands blue king crab, and Atlantic white marlin are still overfished; and both Georges Bank Atlantic cod and Gulf of Maine Atlantic cod are still subject to overfishing and still overfished. NMFS, on behalf of the Secretary, notifies the appropriate regional fishery management council (Council) whenever it determines that overfishing is occurring, a stock is in an overfished condition, or a stock is approaching an overfished condition.

FOR FURTHER INFORMATION CONTACT: Regina Spallone, (301) 427-8568.

SUPPLEMENTARY INFORMATION: Pursuant to section 304(e)(2) of the Magnuson-Stevens Fishery Conservation and Management Act (Magnuson-Stevens Act), 16 U.S.C. 1854(e)(2), NMFS, on behalf of the Secretary, must notify Councils, and publish in the Federal Register, whenever it determines that a stock or stock complex is subject to overfishing, overfished, or approaching an overfished condition.

NMFS has determined that Gulf of Mexico greater amberjack and Gulf of Mexico gray triggerfish are now subject to overfishing. Neither of these stocks were assessed in 2019 and catch data from 2018 support determinations that these stocks are subject to overfishing because total catch for each stock in 2018 exceeded their respective overfishing limit (OFL). NMFS has notified the Gulf of Mexico Fishery Management Council of their obligation to end and prevent overfishing for these stocks.

NMFS has determined that Southern Atlantic greater amberjack and Southern Atlantic red grouper are now subject to overfishing. Neither stock was assessed in 2019, and catch data from 2017/2018 (for greater amberjack) and from 2018 (for red grouper) support determinations that the stocks are subject to overfishing because total catch for each stock exceeded their respective OFL. NMFS has notified the South Atlantic Fishery Management Council of their obligation to end and prevent overfishing for these stocks.

NMFS has also determined that Gulf of Maine/Georges Bank white hake and Georges Bank winter flounder are now overfished, and that Gulf of Maine/Georges Bank windowpane flounder and Southern New England/Mid-Atlantic yellowtail flounder continue to be overfished. These determinations are made based on the most recent stock assessments, completed in 2019 using data through 2018, which indicate that biomass estimates are now below or remain below thresholds. Atlantic witch flounder also continues to be overfished, but could not be quantitatively determined and was qualitatively determined based on continued poor stock condition. Further, both Georges Bank Atlantic cod and Gulf of Maine Atlantic cod are still subject to overfishing and still overfished. The status of Georges Bank cod could not be quantitatively determined and was qualitatively determined to be overfished based on continued poor stock condition. The overfishing status of this stock continues to be based on the last accepted assessment that provided quantitative information, in 2013. The status of Gulf of Maine cod is based on the most recent stock assessment, completed in 2019, using data through 2018, which indicates that biomass remains below its threshold and fishing mortality remains above its threshold. NMFS has notified the New England Fishery Management Council of the requirements to rebuild and to end and prevent overfishing on these stocks.

NMFS has also determined that Pribilof Islands blue king crab is still overfished. This determination is based on the most recent assessment, completed in 2019 using data through 2019, which indicates that the biomass estimate remains below its threshold. NMFS has notified the North Pacific Fishery Management Council of the requirements to rebuild this stock.

NMFS has also determined that Atlantic white marlin is still overfished domestically. This determination is based on the most recent stock assessment, completed in 2019 using data through 2017, which indicates that the biomass estimate remains below its threshold. NMFS continues to work with the International Commission for the

Conservation of Atlantic Tunas (ICCAT) to rebuild Atlantic white marlin, including through the first-ever rebuilding program, which was adopted at the 2019 ICCAT Annual Meeting.

Dated: April 2, 2020.
Hélène M.N. Scalliet,
Acting Director, Office of Sustainable Fisheries, National Marine Fisheries Service.

[FR Doc. 2020-07323 Filed 4-7-20; 8:45 am]

BILLING CODE 3510-22-P